DEPARTMENT OF EDUCATION

Submission for OMB Review; Comment Request

AGENCY: Department of Education.

ACTION: Correction notice.

SUMMARY: On July 9, 2008, the Department of Education published a comment period notice in the Federal Register (Page 39286, Column 3) for the information collection, “Application for Grants under the Student Support Services Program.” This notice hereby corrects the Responses to 1,500 and the Burden Hours to 66,000. The IC Clearance Official, Regulatory Information Management Services, Office of Management, hereby issues a correction notice as required by the Paperwork Reduction Act of 1995.

Dated: July 10, 2008.
Angela C. Arrington,
IC Clearance Official, Regulatory Information Management Services, Office of Management.

[FR Doc. E8-16173 Filed 7-15-08; 8:45 am]

BILLING CODE 4000-01-P